DEPARTMENT OF HEALTH AND HUMAN SERVICES

[60-Day-17-17XR; Docket No. CDC-2017-0027]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the donor registration form in support of the project titled “Acquisition of Freshly Drawn Whole Blood/Blood Products for Reference Diagnostic and Research Use.”

DATES: Written comments must be received on or before May 22, 2017.

ADDRESSES: You may submit comments, identified by Docket No. CDC-2017-0027 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Acquisition of Freshly-Drawn Whole Blood/Blood Products for Reference Diagnostic and Research Use—Existing Information Collection in Use Without an OMB Control Number—National Center for Emerging and Zoonotic Infectious Diseases (NCEZID), Centers for Disease Control and Prevention (CDC).

Background and Brief Description

The CDC seeks a three-year OMB approval to collect information in support of fresh blood/blood products for laboratory programs.

The CDC regularly requires freshly drawn whole blood, serum, plasma, mononuclear white cell and platelet concentrates for research purposes, for reagents, and as “normal” control materials. To enhance the safety of CDC personnel handling these materials, the blood/blood products, or the donors thereof, must be screened for evidence of possible infections by specific testing. At the same time, donor confidentiality must be assured and adequate counseling must be available, in case any specimens or donors test positive for certain transmissible infections.

The donor registration form referenced by this request is a brief, 11-question form that establishes the availability of volunteer donors to participate in the donor program to fill this need for fresh blood/blood products for CDC. The registration form captures donors' availability to donate, interest in various types of donations, smoking history, exercise background, alcohol consumption, measles vaccination history, cholesterol test history, and medications background.

Donors required to maintain the CDC donor pool are recruited by contract program managers often by referral of current donors, directed outreach for new donors by email, occasional posting of notices in areas frequented by CDC personnel, or at local universities for possible student populations.

All donor information is collected and protected by medical professionals with donor/patient confidentiality protected. Information from this form is only used to determine donor eligibility for blood product requests to be used by CDC laboratory programs. Approximately 25 volunteer donors are enrolled annually.

There is no cost to respondents other than the time to participate. Authorizing legislation comes from Section 301 of the Public Health Service Act (42 U.S.C. 241).

Estimated Annualized Burden Hours
Type of respondents | Form name | Number of respondents | Number of responses per respondent | Avg. burden per response (in hrs.) | Total burden (in hrs.)
General public | Registration | 25 | 1 | 15/60 | 7
Total |  |  |  |  | 7

Leroy A. Richardson,
Chief, Information Collection Review Office, Office of Scientific Integrity, Office of the Associate Director for Science, Office of the Director, Centers for Disease Control and Prevention.

[FR Doc. 2017-05699 Filed 3-21-17; 8:45 am]

BILLING CODE 4163-18-P